NUCLEAR REGULATORY COMMISSION

Office of Nuclear Material Safety and Safeguards Spent Fuel Project Office; Notice of Issuance and Availability of NUREG/CR-6672 Reexamination of Spent Fuel Shipment Risk Estimates

The United States Nuclear Regulatory Commission (NRC) has issued the final report “Reexamination of Spent Fuel Shipment Risk Estimates,” NUREG/CR-6672, SAND2000-0234.

The Reexamination evaluates the risks associated with anticipated truck and rail transport of spent fuel under both routine and accident conditions, and concludes that these risks are small. The report was prepared for the Spent Fuel Project Office (SFPO) by Sandia National Laboratories (SNL).

NUREG/CR-6672 is intended for use by risk analysts, scientists, and engineers. A peer review of NUREG/CR-6672 was conducted by Lawrence Livermore National Laboratories, and is available for public review in NRC Agencywide Documents Access and Management System by searching Accession Number ML003720331.

NUREG/CR-6672 is available for inspection, and copying for a fee, at the NRC Public Document Room, 2120 L Street NW (Lower Level), Washington, DC 20555-0001. Copies of NUREG/CR-6672 may be purchased from the Superintendent of Documents, U.S. Government Printing Office, P.O. Box 37082, Washington, DC 20402-9328, telephone no. 1-202-512-1800, or the National Technical Information Service, 5285 Port Royal Road, Springfield, VA 22161, telephone no. 1-800-553-6847. Volume 1, Main Report, has been printed in hard copy. Due to color duplication costs, Volume 2, Appendices, is being distributed only on compact disk (CD). The CD also contains Volume 1. Both volumes are available at the NRC web site, http://www.nrc.gov. See the link under “Technical Reports in the NUREG Series” on the “Reference Library Page.”

Dated at Rockville, Maryland, this 2nd day of June, 2000.
For the Nuclear Regulatory Commission.
Susan F. Shankman,
Deputy Director, Licensing and Inspection Directorate, Spent Fuel Project Office, Office of Nuclear Material Safety and Safeguards.

[FR Doc. 00-14838 Filed 6-12-00; 8:45 am]

BILLING CODE 7590-01-P